DEPARTMENT OF AGRICULTURE

Forest Service

McNally Fire Roadless Restoration Project

AGENCY: USDA Forest Service.

ACTION: Notice of intent to prepare an environmental impact statement.

SUMMARY: The Department of Agriculture, Forest Service is preparing an environmental impact statement (EIS) to address the impacts of the McNally Fire within the Rincon, Chico, and Cannell Roadless areas. In July and August of 2002, the Sequoia National Forest experienced the largest wildfire in its history. The Sequoia National Forest proposes to begin long-germ ecological restoration on that portion of the fire damaged areas on the Cannell Meadow and Hot Springs Ranger Districts that are inside the inventoried roadless areas with the exclusion of those areas that lie within the Giant Sequoia National Monument. The McNally Fire Roadless Restoration Project would implement restoration measures on those watersheds that burned with a moderate to high intensity leading to heavy tree mortality and/or other adverse effects to forest resources such as soils, riparian areas, and wildlife habitat. The fire also killed hundreds of thousands of trees that if left untreated will contribute to high fuel loading over time and re-create high risks for another catastrophic fire. The goal of the project is to move the burned areas toward the desired conditions described in the Sequoia National Forest Land and Resource Management Plan (Forest Plan) as amended by the Sierra Nevada Forest Plan Amendment (SNFPA).

DATES: The public is asked to submit any issues (points of concern, debate, dispute, or disagreement) regarding potential effects of the proposed action by April 25, 2003. The draft EIS is expected to be available for public comment in August 2003 and the final EIS is expected to be published in November 2003.

ADDRESSES: Send written comments to: McNally Fire Roadless Restoration Project, USDA Forest Service, Sequoia National Forest, 900 W. Grant Avenue, Porterville, CA 93257.

FOR FURTHER INFORMATION CONTACT: Tom Simonson, Ecosystem Manager, Sequoia National Forest, at the address listed above. The phone number is (559) 784-1500.

SUPPLEMENTARY INFORMATION:

Purpose and Need for Action

In light of desired conditions specified in the Forest Plan and the existing conditions within the project area outlined above, there is an immediate need to:

1. Accelerate the re-establishment of burned conifer stands to provide important habitat for such old forest species as the spotted owl, fisher, marten, and goshawk.

2. Restore ground cover to soils left unprotected by the fire in order to minimize erosion in the short term and to replace organic material over the long term.

3. Reduce existing fuels in order to reduce the risk of another stand-replacing fire, which would damage recovering habitats and riparian condition, thereby setting back the clock on development of old forest habitat and ripaian restoration.

Proposed Action

This project proposes to restore approximately 17,700 acres of conifer habitat and 12,130 acres of Riparian Conservation Areas (RCAs), of which 5,894 acres are within conifer habitat, with a combination of treatment and non-treatment methods. No roads would be constructed within the inventoried roadless areas. All the areas proposed for treatment are to be managed following the land management direction in the Forest Plan as amended.

Treatments that would be applied in a specific area depend upon the specific restoration need, the slope of the terrain, the degree of vegetation mortality, and the land management allocation. Where possible, dead trees that have commercial value and that are not needed to meet resource objectives would be removed from the site primarily by helicopter through a commercial timber sale. Restoration may require the removal of fire-killed trees to facilitate the future management of those stands. Standing dead trees may present safety hazards and physical barriers to the restoration activities and to future uses. Removal may also be needed to reduce future fuels accumulation to help mitigate future uncharacteristic wildfire effects. Other fuel treatments besides removal will include prescribed burning in combination with removal and/or the dropping and leaving of dead trees.

Felling of dead trees across the contour of the slope is proposed to stabilize sediment. Reforestation with conifers (planting and seeding) is proposed to re-establish habitats occupied by late-seral species prior to the fire, to link together suitable remnant habitats, and to restore large expanses of old forest habitat. Large-diameter snags and logs will be retained in sufficient quantity to maintain legacy structures for both the late-seral species and their prey.

Riparian Conservation Areas (RCA) would also be treated to restore riparian values by re-establishing vegetation, reducing excessive fuel loadings, stabilizing stream channels and sediment, and improving ground cover conditions. Contour felling of dead trees is proposed to stabilize sediment. Planting and seeding of native plants, such as conifers and willows, is proposed to re-establish some of the riparian corridors and other special areas.

Responsible Official

The responsible official is Forest Supervisor Arthur L. Gaffrey, Sequoia National Forest, 900 West Grand Avenue, Porterville, California 93257.

Comment Requested

The comment period on the draft environmental impact statement will be 45 days from the date the Environmental Protection Agency publishes the notice of availability in the Federal Register.

The Forest Service believes that, at this early stage, it is very important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519, 553 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement. To assist the Forest Service in identifying and considering issues and concerns on the proposed action, comments should be as specific as possible.

Dated: March 14, 2003.
Arthur L. Gaffrey,
Forest Supervisor, Sequoia National Forest, USDA Forest Service.

[FR Doc. 03-6685 Filed 3-27-03; 8:45 am]

BILLING CODE 3410-11-M